DEPARTMENT OF TRANSPORTATION

Federal Aviation Administration

14 CFR Part 39

[Docket No. 2003-NM-135-AD; Amendment 39-13925; AD 2005-01-01]

RIN 2120-AA64

Airworthiness Directives; Airbus Model A319 and A320-200 Series Airplanes

AGENCY: Federal Aviation Administration, DOT.

ACTION: Final rule.

SUMMARY: This amendment supersedes an existing airworthiness directive (AD), applicable to certain Airbus Model A319 and A320-200 series airplanes, that currently requires repetitive inspections to detect loose, missing, or discrepant rivets in specified areas of the door frames of the overwing emergency exits; measurement of the grip length of all rivets in the specified areas; and corrective action if necessary, which terminates the repetitive inspections. This new amendment also requires an inspection for correct dimensions of the interior countersinks of the rivet holes, and related corrective action. The actions specified by this AD are intended to prevent loose, missing, or discrepant rivets, which could lead to reduced structural integrity of the door frames of the overwing emergency exits. This action is intended to address the identified unsafe condition.

DATES: Effective February 9, 2005.

The incorporation by reference of certain service information, as listed in the regulations, is approved by the Director of the Federal Register as of February 9, 2005.

The incorporation by reference of certain other service information, as listed in the regulations, was approved previously by the Director of the Federal Register as of April 5, 2002 (67 FR 9392, March 1, 2002).

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call (202) 741-6030, or go to http://www.archives.gov/federal_register/code_of_federal_regulations/ibr_locations.html.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) by superseding AD 2002-04-10, amendment 39-12667 (67 FR 9392, March 1, 2002), which is applicable to certain Airbus Model A319 and A320-200 series airplanes, was published in the Federal Register on April 7, 2004 (69 FR 18304). The action proposed to retain the existing requirements for repetitive inspections for loose, missing, or discrepant rivets in specified areas of the door frames of the overwing emergency exits; and measurement of the grip length of all rivets in the specified areas; and corrective action if necessary, which terminates the repetitive inspections. The proposed AD also proposed to add an inspection for correct dimensions of the interior countersinks of the rivet holes, and related corrective action.

Comments

We provided the public the opportunity to participate in the development of this AD. We have considered the comments that have been submitted on the proposed AD. The commenters support the proposed AD.

Conclusion

We have carefully reviewed the available data, including the comments that have been submitted, and determined that air safety and the public interest require adopting the AD as proposed.

Cost Impact

This AD affects about 168 airplanes of U.S. registry.

The inspections required by AD 2002-04-10 take about 1 work hour per airplane, at an average labor rate of $65 per work hour. Based on these figures, the cost impact of those inspections is estimated to be $65 per airplane, per inspection cycle.

The new inspection required by this AD takes about 1 work hour per airplane, at an average labor rate of $65 per work hour. Based on these figures, the cost impact of the new inspection on U.S. operators is estimated to be $10,920, or $65 per airplane.

The cost impact figures discussed above are based on assumptions that no operator has yet accomplished any of the requirements of this AD, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12667 (67 FR 9392, March 1, 2002), and by adding a new airworthiness directive (AD), amendment 39-13925, to read as follows:

2005-01-01 Airbus: Amendment 39-13925. Docket 2003-NM-135-AD. Supersedes AD 2002-04-10, Amendment 39-12667.

Applicability: Model A319 series airplanes and A320-200 series airplanes; certificated in any category; as listed in Airbus Service Bulletin A320-53-1147, dated September 22, 2000; Revision 02, dated December 3, 2002; or Revision 03, dated August 5, 2003.

Compliance: Required as indicated, unless accomplished previously.

To prevent loose, missing, or discrepant rivets in specified areas of the door frames of the overwing emergency exits, which could lead to reduced structural integrity of the door frames, accomplish the following:

Restatement of Requirements of AD 2002-04-10

Repetitive Inspections

(a) Within 3,500 flight cycles after April 5, 2002 (the effective date of AD 2002-04-10, amendment 39-12667): Conduct a detailed inspection of the specified areas of the door frames of the overwing emergency exits for loose, missing, or discrepant rivets, in accordance with Part B and Figure 5 of the Accomplishment Instructions of Airbus Service Bulletin A320-53-1147, dated September 22, 2000; Revision 02, dated December 3, 2002; or Revision 03, dated August 5, 2003. If no loose, missing, or discrepant rivets are found, repeat the inspection at intervals not to exceed 3,500 flight cycles until the requirements of paragraph (d) have been accomplished. As of the effective date of this AD, only Revision 02 or Revision 03 of the service bulletin may be used.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Corrective Action

(b) If the inspection required by paragraph (a) of this AD reveals that there are loose, missing, or discrepant rivets: Prior to further flight, accomplish the requirements of either paragraph (b)(1) or (b)(2) of this AD, in accordance with Part C and Figure 5 of the Accomplishment Instructions of Airbus Service Bulletin A320-53-1147, dated September 22, 2000; Revision 02, dated December 3, 2002; or Revision 03, dated August 5, 2003. As of the effective date of this AD, only Revision 02 or Revision 03 of the service bulletin may be used.

(1) Measure the grip length of all rivets in the specified areas in which the loose, missing, or discrepant rivets were detected and perform corrective action (e.g., inspecting rivet holes for cracks, opening up rivet holes, repairing cracks at rivet holes, and installing new rivets) as applicable, per the service bulletin; except as specified in paragraph (c) of this AD. Repeat the detailed visual inspection required by paragraph (a) of this AD at intervals not to exceed 3,500 flight cycles until the requirements of paragraph (d) of this AD have been accomplished.

(2) Measure the grip length of all rivets in all specified areas and perform corrective action (e.g., inspecting rivet holes for cracks, opening up rivet holes, repairing cracks at rivet holes, and installing new rivets) as applicable, per the service bulletin; except as specified in paragraph (c) of this AD.

(c) If Airbus Service Bulletin A320-53-1147, dated September 22, 2000; Revision 02, dated December 3, 2002; or Revision 03, dated August 5, 2003; recommends contacting the manufacturer for instructions concerning certain repairs, perform those repairs in accordance with a method approved by the Manager, International Branch, ANM-116, FAA, Transport Airplane Directorate, or by the Direction Générale de l'Aviation Civile or its delegated agent.

Terminating Action

(d) Prior to the accumulation of 24,000 total flight cycles or within 3,500 flight cycles after April 5, 2002, whichever occurs later: Accomplish the requirements of paragraph (b)(2) of this AD, which constitutes terminating action for the requirements specified in paragraphs (a) and (b) of this AD.

New Requirements of This AD

Inspection of Interior Countersinks/Corrective Action

(e) Prior to the accumulation of 24,000 total flight cycles or within 3,500 flight cycles after the effective date of this AD, whichever occurs later: Do a detailed inspection for correct dimensions of the interior countersinks of the rivet holes of the door frames of the overwing emergency exits; and any related corrective action; per the Accomplishment Instructions of Airbus Service Bulletin A320-53-1147, Revision 02, including Appendix 01, dated December 3, 2002; or Revision 03, including Appendix 01, dated August 5, 2003. Do any related corrective action within 1,000 flight cycles after doing the inspection.

Alternative Methods of Compliance

(f)(1) In accordance with 14 CFR 39.19, the Manager, International Branch, ANM-116, is authorized to approve alternative methods of compliance for this AD.

(2) Alternative methods of compliance, approved previously per AD 2002-04-10, amendment 39-12667, are approved as alternative methods of compliance with paragraphs (a) and (b) of this AD.

Note 2: The subject of this AD is addressed in French airworthiness directive 2003-147(B) R1, dated May 14, 2003.

Incorporation by Reference

(g) Unless otherwise specified in this AD, the actions must be done in accordance with Airbus Service Bulletin A320-53-1147, dated September 22, 2000; Airbus Service Bulletin A320-53-1147, Revision 02, including Appendix 01, dated December 3, 2002; or Airbus Service Bulletin A320-53-1147, Revision 03, including Appendix 01, dated August 5, 2003.

(1) The incorporation by reference of Airbus Service Bulletin A320-53-1147, Revision 02, including Appendix 01, dated December 3, 2002; and Airbus Service Bulletin A320-53-1147, Revision 03, including Appendix 01, dated August 5, 2003, is approved by the Director of the Federal Register, in accordance with 5 U.S.C. 552(a) and 1 CFR part 51.

(2) The incorporation by reference of Airbus Service Bulletin A320-53-1147, dated September 22, 2000, was approved previously by the Director of the Federal Register as of April 5, 2002 (67 FR 9392, March 1, 2002).

(3) Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call (202) 741-6030, or go to http://www.archives.gov/federal_register/code_of_federal_regulations/ibr_locations.html.

Effective Date

(h) This amendment becomes effective on February 9, 2005.

Issued in Renton, Washington, on December 27, 2004.
Kevin M. Mullin,
Acting Manager, Transport Airplane Directorate, Aircraft Certification Service.

[FR Doc. 05-103 Filed 1-4-05; 8:45 am]

BILLING CODE 4910-13-P